DEPARTMENT OF HEALTH AND HUMAN SERVICES

Administration on Aging

Agency Information Collection Activities; Submission for OMB Review; Comment Request; Fourth National Study of Older Americans Act Recipients

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by September 12, 2007.

ADDRESSES: Submit written comments on the collection of information by fax 202.395.6974 to the OMB Desk Officer for AoA, Office of Information and Regulatory Affairs, OMB.

FOR FURTHER INFORMATION CONTACT: Valerie Cook (202) 357-3583 or Valerie.Cook@aoa.hhs.gov.

SUPPLEMENTARY INFORMATION: In compliance with 44 U.S.C. 3507, AoA has submitted the following proposed collection of information to OMB for review and clearance.

The Fourth National Survey of Older Americans Act Service Recipients builds on earlier national studies and performance measurement tools developed by grantees in the Performance Outcomes Measures Project (POMP). It will include consumer assessment surveys for congregate and home delivered meal nutrition program, transportation, homecare services and other title IIIB services, and National Family Caregiver Support Program. Copies of the POMP instruments can be located at http://www.gpra.net. Information collected through the study will be used by AoA to track performance outcome measures, support budget requests; comply with Government Performance Results Act (GPRA) reporting requirements; provide information for OMB's program assessment (PART) process; provide national benchmark information for grantees and inform program improvement and management initiatives.

AoA estimates the burden of this collection of information as follows: 250 Area Agencies on Aging will have to commit 4 hours each for identifying potential clients to be interviewed for the survey. The estimated burden is 1,000 hours. 6,000 individuals will be surveyed about their usage and satisfaction with services. Each interview takes approximately 30 minutes for an estimated burden of 3,000 hours. Total burden of data collection is 4,000 hours.

Dated: August 8, 2007.
Josefina G. Carbonell,
Assistant Secretary for Aging.

[FR Doc. E7-15820 Filed 8-10-07; 8:45 am]

BILLING CODE 4154-01-P